DEPARTMENT OF TRANSPORTATION

Federal Aviation Administration

14 CFR Part 39

[Docket No. FAA-2007-28435; Directorate Identifier 2007-CE-054-AD]

RIN 2120-AA64

Airworthiness Directives; GROB-WERKE GMBH & CO KG Models G102 ASTIR CS, G102 CLUB ASTIR III, G102 CLUB ASTIR IIIb, and G102 STANDARD ASTIR III Gliders

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

As a result of the replacement action of the G 103 TWIN ASTIR spar spigot assemblies, the Gliding Federation of Australia issued a directive to inspect the similar main spigots of single-seater sailplanes.

The proposed AD would require actions that are intended to address the unsafe condition described in the MCAI.

DATES: We must receive comments on this proposed AD by August 29, 2007.

ADDRESSES: You may send comments by any of the following methods:

• DOT Docket Web Site: Go to http://dms.dot.gov and follow the instructions for sending your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: Go to http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2007-28435; Directorate Identifier 2007-CE-054-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The Luftfahrt-Bundesamt (LBA), which is the airworthiness authority for Germany, has issued AD 91-5/2 Grob, dated February 1, 1991 (referred to after this as “the MCAI”), to correct an unsafe condition for the specified products. The MCAI states:

As a result of the replacement action of the G 103 TWIN ASTIR spar spigot assemblies, the Gliding Federation of Australia issued a directive to inspect the similar main spigots of single-seater sailplanes.

The MCAI requires you to inspect the wing main spigot assembly before the next flight and replace it. You may obtain further information by examining the MCAI in the AD docket.

The MCAI compliance time required the wing main spigot assembly to be inspected before the next flight and replacement of the wing spar spigot assembly no later than December 31, 1992. The FAA did not issue an AD on the single-seat versions (Models G102 ASTIR CS, G102 CLUB ASTIR III, G102 CLUB ASTIR IIIb, and G102 STANDARD ASTIR III) at the time the German airworthiness authority issued its AD.

Relevant Service Information

Grob Luft- und Raumfahrt has issued Service Bulletin TM 306-29; TM 320-5, issue date: October 11, 1990. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 75 products of U.S. registry. We also estimate that it would take about 24 work-hours per product to comply with the basic requirements of this proposed AD. The average labor rate is $80 per work-hour. Required parts would cost about $840 per product. Where the service information lists required parts costs that are covered under warranty, we have assumed that there will be no charge for these costs. As we do not control warranty coverage for affected parties, some parties may incur costs higher than estimated here.

Based on these figures, we estimate the cost of the proposed AD on U.S. operators to be $207,000, or $2,760 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

GROB-WERKE GMBH & CO KG: Docket No. FAA-2007-28435; Directorate Identifier 2007-CE-054-AD.

Comments Due Date

(a) We must receive comments by August 29, 2007.

Affected ADs

(b) None.

Applicability

(c) This AD applies to the gliders Model G102 ASTIR CS, serial numbers (SNs) 1001 through 1536; Model G102 CLUB ASTIR III, SNs 5501 (suffix C) through 5652 (suffix C); Model G102 CLUB ASTIR IIIb, SNs 5501 (suffix Cb) through 5652 (suffix Cb); and Model G102 STANDARD ASTIR III, SNs 5501 (suffix S) through 5652 (suffix S), that are:

(1) Equipped with any wing spar spigot assembly that has not been replaced following Grob Luft- und Raumfahrt Service Bulletin TM 306-29; TM 320-5, issue date: October 11, 1990; and

(2) Are certificated in any category.

Subject

(d) Air Transport Association of America (ATA) Code 57: Wings.

Reason

(e) The mandatory continuing airworthiness information (MCAI) states:

As a result of the replacement action of the G 103 TWIN ASTIR spar spigot assemblies, the Gliding Federation of Australia issued a directive to inspect the similar main spigots of single-seater sailplanes.

The MCAI requires you to inspect the wing main spigot assembly before the next flight and replace it.

Actions and Compliance

(f) Unless already done, do the following actions:

(1) Within the next 10 hours time-in-service (TIS) after the effective date of this AD, inspect both wing spar spigot assemblies for cracks using a dye penetrant or magnetic particle method following Grob Luft- und Raumfahrt Service Bulletin TM 306-29; TM 320-5, issue date: October 11, 1990. The use of the magnification method is prohibited.

Note 1: If dye penetrant method is used, great care should be exercised when cleaning and/or etching the surfaces and interpreting surface faults.

(2) Replace the wing main spigot assembly following Grob Luft- und Raumfahrt Service Bulletin TM 306-29; TM 320-5, issue date: October 11, 1990, using whichever of the following compliance times that apply:

(i) If cracks are found during the inspection required in paragraph (f)(1) of this AD, before further flight; or

(ii) If no cracks are found during the inspection required in paragraph (f)(1) of this AD, within the next 12 months after the effective date of this AD.

FAA AD Differences

Note 2: This AD differs from the MCAI and/or service information as follows:

(1) The MCAI compliance time required the wing main spigot assembly to be inspected before the next flight and replacement of the wing spar spigot assembly no later than December 31, 1992. This proposed AD requires inspection within the next 10 hours TIS after the effective date of this AD and replacement prior to further flight after the inspection where cracks are found or 12 months after the effective date of this AD if no cracks are found.

(2) In lieu of authorizing a 10x magnifier for inspection as specified in the MCAI, this proposed AD requires you use either a dye penetrant or magnetic particle inspection method.

Other FAA AD Provisions

(g) The following provisions also apply to this AD:

(1) Alternative Methods of Compliance (AMOCs): The Manager, Standards Staff, FAA, has the authority to approve AMOCs for this AD, if requested using the procedures found in 14 CFR 39.19. Send information to ATTN: Greg Davison, Glider Program Manager, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) Refer to MCAI Federal Republic of Germany Luftfahrt-Bundesamt AD 91-5/2 Grob, dated February 1, 1991; and Grob Luft-und Raumfahrt Service Bulletin TM 306-29; TM 320-5, issue date: October 11, 1990; for related information.

Issued in Kansas City, Missouri, on July 24, 2007.
James E. Jackson,
Acting Manager, Small Airplane Directorate, Aircraft Certification Service.

[FR Doc. E7-14641 Filed 7-27-07; 8:45 am]

BILLING CODE 4910-13-P